DEPARTMENT OF DEFENSE

Office of the Secretary

[Docket ID: DoD-2014-HA-0161]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 2, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Health Agency (DHA), Communications Division, ATTN: Lennya Bonivento, 7700 Arlington Boulevard, Suite 5101, Falls Church, VA 22042-5101, or call DHA Communications Division, at 703-681-1770.

SUPPLEMENTARY INFORMATION: Title; Associated Form; and OMB Number: Assistance Reporting Tool (ART), OMB Control Number 0720-TBD.

Needs and Uses: The ART is a secure web-based system that captures feedback on and authorization related to TRICARE benefits. Users are comprised of Military Health System (MHS) customer service personnel, to include Beneficiary Counseling and Assistance Coordinators, Debt Collection Assistance Officers, personnel, family support, recruiting command, case managers, and others who serve in a customer service support role. The ART is also the primary means by which DHA-Great Lakes staff capture medical authorization determinations and claims assistance information for remotely located service members, line of duty care, and for care under the Transitional Care for Service-related Conditions benefit. ART data reflects the customer service mission within the MHS: It helps customer service staff users prioritize and manage their case workload; it allows users to track beneficiary inquiry workload and resolution, of which a major component is educating beneficiaries on their TRICARE benefits. Personal health information (PHI) and personally identifiable information (PII) entered into the system is received from individuals via a verbal or written exchange and is only collected to facilitate beneficiary case resolution. Authorized users may use the PII/PHI to obtain and verify TRICARE eligibility, treatment, payment, and other healthcare operations information for a specific individual. All data collected is voluntarily given by the individual. At any time during the case resolution process, individuals may object to the collection of PHI and PII via verbal or written notice. Individuals are informed that without PII/PHI the authorized user of the system may not be able to assist in case resolution, and that answers to questions/concerns would be generalities regarding the topic at hand.

Affected Public: Individuals or households.

Annual Burden Hours: 63,500.

Number of Respondents: 254,000.

Responses per Respondent: 1.

Annual Responses: 254,000.

Average Burden per Response: 15 minutes.

Frequency: On Occasion.

The Defense Health Agency (DHA) Communications Division designed the ART as a secure, (Department of Defense Information Assurance Certification and Accreditation Process-certified with a Privacy Impact Assessment on file with the DHA Privacy and Civil Liberties Office) web-based system to track, refer, reflect, and report workload associated with resolution of beneficiary and/or provider inquiries. The ART is also the primary means by which DHA-Great Lakes staff capture medical authorization determinations and claims assistance information for remotely located service members, line of duty care, and for care under the Transitional Care for Service-related Conditions benefit.

Users are comprised of MHS customer service personnel, to include Beneficiary Counseling and Assistance Coordinators, Debt Collection Assistance Officers, DHA-Great Lakes staff, personnel, family support, recruiting command, case managers, and others who serve in a customer service support role. Only individuals with a valid need-to-know demonstrated by assigned official Government duties are granted access to the ART. These individuals must satisfy all personnel security criteria with special protection measures or restricted distribution as established by the data owner.

ART data reflects the customer service mission within the MHS: It helps customer service staff users prioritize and manage their case workload; it allows users to track beneficiary inquiry workload and resolution, of which a major component is educating beneficiaries on their TRICARE benefits.

PHI and PII entered into the system is received from individuals via a verbal or written exchange and is only collected to facilitate beneficiary case resolution. Authorized users may use the PII/PHI to obtain and verify TRICARE eligibility, treatment, payment, and other healthcare operations information for a specific individual. All data collected is voluntarily given by the individual. At any time during the case resolution process, individuals may object to the collection of PHI and PII via verbal or written notice. Individuals are informed that without PII/PHI the authorized user of the system may not be able to assist in case resolution, and that answers to questions/concerns would be generalities regarding the topic at hand.

Dated: December 22, 2014.
Aaron Siegel,
Alternate OSD Federal Register Liaison Officer, Department of Defense.

[FR Doc. 2014-30418 Filed 12-29-14; 8:45 am]

BILLING CODE 5001-06-P